DEPARTMENT OF COMMERCE

National Oceanic and Atmospheric Administration

[RTID 0648-XB623]

Marine Mammals; File No. 26024

AGENCY: National Marine Fisheries Service (NMFS), National Oceanic and Atmospheric Administration (NOAA), Commerce.

ACTION: Notice; receipt of application.

SUMMARY: Notice is hereby given that Ocean Futures Society, 513 De La Vina Street, Santa Barbara, CA 93101 (Responsible Party: Jean-Michel Cousteau), has applied in due form for a permit to conduct commercial or educational photography on humpback whales (Megaptera novaeangliae), bottlenose dolphins (Tursiops truncatus), spinner dolphins (Stenella longirostris), and pantropical spotted dolphins (S. attenuata).

DATES: Written, telefaxed, or email comments must be received on or before January 7, 2022.

ADDRESSES: These documents are available upon written request via email to NMFS.Pr1Comments@noaa.gov.

Written comments on this application should be submitted via email to NMFS.Pr1Comments@noaa.gov. Please include File No. 26024 in the subject line of the email comment.

Those individuals requesting a public hearing should submit a written request via email to NMFS.Pr1Comments@noaa.gov. The request should set forth the specific reasons why a hearing on this application would be appropriate.

FOR FURTHER INFORMATION CONTACT: Amy Hapeman or Carrie Hubard, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to film humpback whales and dolphins to produce a documentary to celebrate Jean-Michel Cousteau's 75 years of diving and educate the public about the protection, conservation, and management of humpback whales and other cetaceans in Hawaii waters. Filmmakers would annually harass up to 105 humpback whales, 700 bottlenose dolphins, 700 pantropical spotted dolphins, and 700 spinner dolphins for photography/videography (aerial, topside and underwater) using two vessels, divers, and two unmanned aircraft systems. Filming is expected to occur within a two-week period in February or March each year. The permit would be valid for two years.

It has come to the agency's attention that the 2016 interim final humpback approach rule (50 CFR 216.19; 81 FR 62010, September 8, 2016) does not explicitly exempt permits issued under section 104(c)(6) of the MMPA from its prohibitions. It is not the agency's intent to preclude the issuance of permits or authorizations consistent with the requirements of the MMPA. We interpret the rule to allow issuance of these permits. Consistent with this interpretation, it has been our practice to continue to issue section 104(c)(6) permits that are in compliance with the MMPA's requirements and our review procedures, as evidenced by issuance of four such permits since the rule's effective date. However, to eliminate any potential ambiguity, we intend to revise the rule to explicitly clarify that photography permits issued under section 104(c)(6) of the MMPA are exempt from the prohibitions on approach.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 2, 2021.
Julia M. Harrison,
Chief, Permits and Conservation Division, Office of Protected Resources, National Marine Fisheries Service.

[FR Doc. 2021-26537 Filed 12-7-21; 8:45 am]

BILLING CODE 3510-22-P